DEPARTMENT OF ENERGY

Federal Energy Regulatory Commission

Combined Notice of Filings #1

Take notice that the Commission received the following electric corporate filings:

Docket Numbers: EC18-114-000.

Applicants: The Dow Chemical Company, Union Carbide Corporation, Spruance Genco, LLC, E. I. du Pont de Nemours and Company, Dow Pipeline Company.

Description: Application for Authorization Under Section 203 of the Federal Power Act and Request for Waivers of The Dow Chemical Company.

Filed Date: 6/29/18.

Accession Number: 20180629-5104.

Comments Due: 5 p.m. ET 7/20/18.

Take notice that the Commission received the following electric rate filings:

Docket Numbers: ER10-1521-004; ER10-1520 004; ER10-1522 003.

Applicants: Occidental Power Marketing, L.P., Occidental Power Services, Inc., Occidental Chemical Corporation, LLC.

Description: Updated Market Power Analysis for the Central Region of the Occidental MBRA Entities.

Filed Date: 6/29/18.

Accession Number: 20180629-5149.

Comments Due: 5 p.m. ET 8/28/18.

Docket Numbers: ER10-1585-013; ER10-1594-013; ER16-733-004; ER10-1617-013; ER16-1148-004; ER10-1623-005; ER12-60-015; ER10-1632-015; ER10-1628-013.

Applicants: Alabama Electric Marketing, LLC, California Electric Marketing, LLC, LQA, LLC, New Mexico Electric Marketing, LLC, Tenaska Energía de Mexico, S. de R. L. de C.V., Tenaska Frontier Partners, Ltd., Tenaska Power Management, LLC, Tenaska Power Services Co., Texas Electric Marketing, LLC.

Description: Notification of Change in Status of the Tenaska MBR Sellers.

Filed Date: 6/29/18.

Accession Number: 20180629-5167.

Comments Due: 5 p.m. ET 7/20/18.

Docket Numbers: ER10-1789-005; ER16-2725-003; ER10-1770-005; ER12-1250-005; ER10-1771-005; ER16-1925-003; ER16-1924-003; ER16-1926-003; ER10-1768-005; ER17-2426-001.

Applicants: PSEG Energy Resources & Trade LLC, PSEG Energy Solutions LLC, PSEG Fossil LLC, PSEG New Haven LLC, PSEG Nuclear LLC, PSEG Keys Energy Center LLC, Pavant Solar II LLC, Bison Solar LLC, San Isabel Solar LLC, Public Service Electric and Gas Company.

Description: Supplement to May 25, 2018 Notice of Non-Material Change in Status of the PSEG Affiliates.

Filed Date: 6/29/18.

Accession Number: 20180629-5193.

Comments Due: 5 p.m. ET 7/20/18.

Docket Numbers: ER10-1901-011.

Applicants: Upper Peninsula Power Company.

Description: Updated Market Power Analysis of Upper Peninsula Power Company.

Filed Date: 6/29/18.

Accession Number: 20180629-5150.

Comments Due: 5 p.m. ET 8/28/18.

Docket Numbers: ER10-2074-008; ER10-2097-010; ER10-2507-018.

Applicants: Kansas City Power & Light Company, KCP&L Greater Missouri Operations Company, Westar Energy, Inc.

Description: Triennial Market Power Update for the SPP Region of the Evergy MBR Affiliates.

Filed Date: 6/29/18.

Accession Number: 20180629-5161.

Comments Due: 5 p.m. ET 8/28/18.

Docket Numbers: ER10-2794-025; ER12-1825 023; ER14-2672 010.

Applicants: EDF Trading North America, LLC, EDF Energy Services, LLC, EDF Industrial Power Services (CA), LLC.

Description: Updated Market Power Analysis for the Central Region of the EDF Sellers.

Filed Date: 6/29/18.

Accession Number: 20180629-5209.

Comments Due: 5 p.m. ET 8/28/18.

Docket Numbers: ER14-1348-005; ER14-1349-005; ER10-3057-003; ER10-1810-002; ER10-2950-012.

Applicants: The Dow Chemical Company, Union Carbide Corporation, Dow Pipeline Company, E. I. du Pont de Nemours & Company, Spruance Genco, LLC.

Description: Triennial Market Power Analysis for the Central Region of The Dow Chemical Company, et al.

Filed Date: 6/29/18.

Accession Number: 20180629-5156.

Comments Due: 5 p.m. ET 8/28/18.

Docket Numbers: ER14-1348-006; ER10-1810-003; ER10-2950-013; ER10-3057-004; ER14-1348-006; ER14-1349-006.

Applicants: The Dow Chemical Company, Union Carbide Corporation, Dow Pipeline Company, E. I. du Pont de Nemours & Company, Spruance Genco, LLC.

Description: Notification of Non-Material Change-in-Status and Request for Waiver of The Dow Chemical Company, et al.

Filed Date: 6/29/18.

Accession Number: 20180629-5164.

Comments Due: 5 p.m. ET 7/20/18.

Docket Numbers: ER15-2237-005.

Applicants: Kanstar Transmission, LLC.

Description: Compliance filing: Compliance Filing ER15-2237 & El18-15 to be effective 9/21/2015.

Filed Date: 6/29/18.

Accession Number: 20180629-5070.

Comments Due: 5 p.m. ET 7/20/18.

Docket Numbers: ER18-1880-000.

Applicants: Avista Corporation.

Description: § 205(d) Rate Filing: Avista Corp. OATT Attachment I Revision to be effective 8/1/2018.

Filed Date: 6/28/18.

Accession Number: 20180628-5170.

Comments Due: 5 p.m. ET 7/19/18.

Docket Numbers: ER18-1881-000.

Applicants: Southwest Power Pool, Inc.

Description: § 205(d) Rate Filing: 2824R4 KMEA & Sunflower Meter Agent Agreement to be effective 6/1/2018.

Filed Date: 6/29/18.

Accession Number: 20180629-5034.

Comments Due: 5 p.m. ET 7/20/18.

Docket Numbers: ER18-1882-000.

Applicants: Duke Energy Florida, LLC.

Description: § 205(d) Rate Filing: DEF-FMPA NITSA (SA No. 148) Amendment (Ft. Meade) to be effective 9/1/2018.

Filed Date: 6/29/18.

Accession Number: 20180629-5059.

Comments Due: 5 p.m. ET 7/20/18.

Docket Numbers: ER18-1883-000.

Applicants: Midcontinent Independent System Operator, Inc., Michigan Electric Transmission Company, LLC.

Description: § 205(d) Rate Filing: 2018-06-29_SA 3132 METC-Wolverine T-T to be effective 6/1/2018.

Filed Date: 6/29/18.

Accession Number: 20180629-5060.

Comments Due: 5 p.m. ET 7/20/18.

Docket Numbers: ER18-1884-000.

Applicants: Duke Energy Florida, LLC.

Description: Tariff Cancellation: DEF-City of Ft. Meade NITSA (SA No. 152) Cancellation Filing to be effective 9/1/2018.

Filed Date: 6/29/18.

Accession Number: 20180629-5062.

Comments Due: 5 p.m. ET 7/20/18.

Docket Numbers: ER18-1885-000.

Applicants: PJM Interconnection, L.L.C.

Description: § 205(d) Rate Filing: Revised SA No. 3518 NITSA among PJM and LGE/KU to be effective 6/1/2018.

Filed Date: 6/29/18.

Accession Number: 20180629-5072.

Comments Due: 5 p.m. ET 7/20/18.

Docket Numbers: ER18-1886-000.

Applicants: Vermont Transco, LLC.

Description: Compliance filing: compliance 2018 exhibit A to be effective 7/1/2018.

Filed Date: 6/29/18.

Accession Number: 20180629-5075.

Comments Due: 5 p.m. ET 7/20/18.

Docket Numbers: ER18-1887-000.

Applicants: XOOM Energy, LLC.

Description: § 205(d) Rate Filing: Market-Based Rate Tariff Revisions to be effective 6/30/2018.

Filed Date: 6/29/18.

Accession Number: 20180629-5077.

Comments Due: 5 p.m. ET 7/20/18.

Docket Numbers: ER18-1888-000.

Applicants: Niagara Mohawk Power Corporation, New York Independent System Operator, Inc.

Description: Tariff Cancellation: Niagara Mohawk Power Corporation Notice of Cancellation of Tug Hill Agreement No. 125 to be effective 8/24/2017.

Filed Date: 6/29/18.

Accession Number: 20180629-5088.

Comments Due: 5 p.m. ET 7/20/18.

Docket Numbers: ER18-1890-000.

Applicants: Consumers Energy Company.

Description: § 205(d) Rate Filing: Blackstart Rate Change to be effective 9/1/2018.

Filed Date: 6/29/18.

Accession Number: 20180629-5121.

Comments Due: 5 p.m. ET 7/20/18.

Docket Numbers: ER18-1891-000.

Applicants: Duke Energy Carolinas, LLC.

Description: § 205(d) Rate Filing: Amendment to REMC NITSA (SA No. 369) to be effective 7/1/2018.

Filed Date: 6/29/18.

Accession Number: 20180629-5152.

Comments Due: 5 p.m. ET 7/20/18.

Docket Numbers: ER18-1892-000.

Applicants: Southwest Power Pool, Inc.

Description: § 205(d) Rate Filing: 2900R10 KMEA NITSA NOA to be effective 9/1/2018.

Filed Date: 6/29/18.

Accession Number: 20180629-5154.

Comments Due: 5 p.m. ET 7/20/18.

Docket Numbers: ER18-1893-000.

Applicants: New York State Electric & Gas Corporation.

Description: § 205(d) Rate Filing: Rate Schedule FERC No. 87 Supplement to be effective 9/1/2018.

Filed Date: 6/29/18.

Accession Number: 20180629-5163.

Comments Due: 5 p.m. ET 7/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2018.
Nathaniel J. Davis, Sr.,
Deputy Secretary.

[FR Doc. 2018-14503 Filed 7-5-18; 8:45 am]

BILLING CODE 6717-01-P